NUCLEAR WASTE TECHNICAL REVIEW BOARD

Workshop; November 18-19, 2013 in Washington, DC

The U.S. Nuclear Waste Technical Review Board will hold a workshop on impacts of SNF canister design on the SNF waste-management system.

Pursuant to its authority under section 5051 of Public Law 100-203, Nuclear Waste Policy Amendments Act of 1987, the U.S. Nuclear Waste Technical Review Board will hold a workshop on Monday, November 18, and Tuesday, November 19, 2013, to identify issues related to how the use of large dry-storage canisters by nuclear utilities for onsite storage will affect future handling, storage, transportation and geologic disposal of spent nuclear fuel (SNF). Unless these canisters can be directly disposed of in a geologic repository, it will be necessary to transfer the SNF they contain into disposal containers prior to permanent disposal.

Repackaging the SNF would have significant implications for the waste management system: it likely will take a long time; it will involve extensive SNF handling operations; and, at decommissioned reactor sites, construction of a pool or dry-transfer facility may be necessary. However, direct disposal of the large dry-storage canisters without repackaging the SNF also would present significant challenges and may affect the geologic environments that would be considered for a repository.

The workshop will look broadly at these issues. It will be open to all interested parties and opportunities will be provided for full participation by all attendees. The workshop will be held in conjunction with the Board's Winter Board meeting, which will be held on Wednesday, November 20, 2013. A separate Federal Register notice will be issued on that meeting.

The workshop and the Board meeting will be held at the Embassy Suites, 1250 22nd Street NW., Washington, DC 20037; (Tel) 202-857-3388, (Fax) 202-293-3173. A block of rooms has been reserved at the hotel. To make a reservation for either or both meetings, attendees may call 1 800-EMBASSY (362-2779). The group code name for the workshop and meeting is “UNW.” Reservations also may be made on the hotel Web site: http://embassysuites.hilton.com/en/es/groups/personalized/W/WASDNES-UNW-20131117/index.jhtml?WT.mc_id=POG. All reservations must be made by October 25 to receive the group rate.

The workshop will begin on Monday, November 18, at 1:00 p.m. with a series of presentations that will set the stage for discussion sessions that will take place on the second day of the workshop. On Tuesday, November 19, the workshop will resume at 8:00 a.m. with a call to order and orientation followed by two “break-out” sessions, one focused on the issues that will arise if the SNF stored in dry-storage containers needs to be repackaged and the other focused on the issues that will arise if the dry-storage containers are to be disposed of directly without repackaging the SNF. The break-out sessions will be facilitated and will be held concurrently.

Following a lunch break, there will be a facilitated plenary session at which the outcomes from both morning breakout sessions will be reported, with the opportunity for further discussion by all attendees. Key issues and “takeaways” will be pinpointed during a final plenary session, which will include another opportunity for open discussion. The workshop is scheduled to end at approximately 5:00 p.m.

During the workshop, it may be necessary to set a time limit on individual remarks in order to maintain the schedule, but written comments of any length may be submitted during and after the workshop and will be entered into the record of the meeting. The workshop agenda is available on the Board's Web site: www.nwtrb.gov. Transcripts of the workshop discussions will be available on the Board's Web site after December 16, 2013.

The Board was established in the 1987 amendments to the Nuclear Waste Policy Act (NWPA) as an independent agency in the Executive branch to perform an ongoing objective evaluation of the technical validity of activities undertaken by the U.S. Department of Energy related to implementing the NWPA. Board members are experts in their fields and are appointed by the President from a list of candidates submitted by the National Academy of Sciences. The Board is required to report its findings, conclusions, and recommendations to Congress and the Secretary. Board reports, correspondence, congressional testimony, and meeting transcripts and materials are posted on the Board's Web site.

For information on the workshop contact Gene Rowe at rowe@nwtrb.gov or Karyn Severson at severson@nwtrb.gov. For information on meeting logistics contact Linda Coultry at coultry@nwtrb.gov. Gene Rowe can be reached by telephone at 703-236-7512. Karyn Severson and Linda Coultry can be reached by telephone at 703-235-4473.

Dated: October 16, 2013.
Nigel Mote,
Executive Director, U.S. Nuclear Waste Technical Review Board.

[FR Doc. 2013-24701 Filed 10-22-13; 8:45 am]

BILLING CODE 6820-AM-M